DEPARTMENT OF COMMERCE

International Trade Administration

[A-570-909]

Certain Steel Nails From the People's Republic of China: Initiation and Preliminary Results of Antidumping Duty Changed Circumstances Review

AGENCY: Import Administration, International Trade Administration, Department of Commerce.

DATES: Effective Date: April 21, 2011.

SUMMARY: On February 11, 2011, the Department of Commerce (“Department”) received a request on behalf of Mid Continent Nail Corporation (“Petitioner”) for a changed circumstances review and a request to revoke, in part, the antidumping duty order on certain steel nails from the People's Republic of China (“PRC”) with respect to four types of steel nails. Petitioner's request expressed lack of interest in antidumping duty relief from imports of these four specific types of steel nails. In addition to the four physical descriptions of steel nails, Petitioner requested three of the nails include the labels “roof” or “roofing” on the packaging. The Department is preliminarily not adopting Petitioner's labeling request as an absolute requirement. However, we are preliminarily notifying the public of our intent to revoke, in part, the antidumping duty order as it relates to imports of four specific types of steel nails described below. The Department invites interested parties to comment on these preliminary results.

FOR FURTHER INFORMATION CONTACT: Alexis Polovina, AD/CVD Operations, Office 9, International Trade Administration, U.S. Department of Commerce, 14th Street and Constitution Avenue, NW., Washington, DC 20230; telephone: (202) 482-3927.

SUPPLEMENTARY INFORMATION:

Background

On August 1, 2008, the Department published the antidumping duty order on certain steel nails from the PRC. See Notice of Antidumping Duty Order: Certain Steel Nails From the People's Republic of China, 73 FR 44961 (August 1, 2008) (“Order”). On February 11, 2011, Petitioner submitted a request for a changed circumstances review to revoke, in part, the antidumping duty order on certain steel nails from the PRC with respect to four specific types of steel nails.

On February 22, 2011, the Department received comments on behalf of Itochu Building Products (“IBP”) supporting Petitioner's request for partial revocation of the Order. IBP requested the Department select the date of the preliminary determination of the original investigation as the effective date of the revocation and also conduct an expedited review. On March 1, 2011, the Department received comments on behalf of National Nail Corp. (“National Nail”) supporting Petitioner's request for partial revocation of the Order. National Nail also requested that the Department select the date of the preliminary determination of the original investigation as the effective date of revocation and conduct an expedited review. On March 4, 2011, Department officials spoke with counsel representing Petitioner to clarify an inconsistency regarding the effective dates identified in Petitioner's request,¹ and clarified that Petitioner intended for the effective date of the partial revocation to be January 23, 2008, the date of the preliminary determination of the investigation. On March 8, 2011, counsel representing IBP met with Department officials to discuss the effective date.² On March 24, 2011, the Department received comments on behalf of United Sources Inc. (“United Sources”) supporting Petitioner's request for partial revocation of the Order. United Sources also requested that the Department select the date of the preliminary determination of the investigation as the effective date of revocation and conduct an expedited review.

¹ See Memorandum to the File, From Alexis Polovina, Case Analyst, Regarding Changed Circumstances Review (“CCR”) of Certain Steel Nails from the People's Republic of China (“PRC”): Phone Call with Petitioner, dated March 4, 2011.

² See Memorandum to the File, Through Alex Villanueva, Program Manager, Office 9, Import Administration, From Timothy Lord, Analyst, Office 9, Import Administration, Regarding Certain Steel Nails from the People's Republic of China: Meeting with Outside Party, dated March 9, 2011.

Scope of the Order

The merchandise covered by this proceeding includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire.

Certain steel nails subject to this proceeding are currently classified under the Harmonized Tariff Schedule of the United States (“HTSUS”) subheadings 7317.00.55, 7317.00.65 and 7317.00.75. Excluded from the scope of this proceeding are roofing nails of all lengths and diameter, whether collated or in bulk, and whether or not galvanized. Steel roofing nails are specifically enumerated and identified in ASTM Standard F 1667 (2005 revision) as Type I, Style 20 nails.

Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumbtacks, which are currently classified under HTSUS 7317.00.10.00.

Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools. While the HTSUS subheadings are provided for convenience and customs purposes, the written description of the scope of this proceeding is dispositive.

Initiation and Preliminary Results of Changed Circumstances Review, and Intent To Revoke Order in Part

At the request of Petitioner, and in accordance with sections 751(b)(1) and (d)(1) of the Tariff Act of 1930, as amended (“Act”), and 19 CFR 351.216, the Department is initiating a changed circumstances review of certain steel nails from the PRC to determine whether partial revocation of the antidumping duty order is warranted with respect to the following four types of steel nails:

(1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive.

(2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive.

(3) Wire collated steel nails, in coils, having a galvanized finish, a smooth, barbed or ringed shank, an actual length of 0.500″ to 1.75″, inclusive; an actual shank diameter of 0.116″ to 0.166″, inclusive; and an actual head diameter of 0.3375″ to 0.500″, inclusive.

(4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

In addition to the physical descriptions of the steel nails subject to this exclusion request, Petitioner included in its request that the following language regarding labeling be added to three of the nails for which Petitioner requested revocation: “and whose packaging and packaging marking for entries on or after the date of publication of the final results of the changed circumstances review are clearly and prominently labeled “Roofing” or “Roof” nails.” ³ The Department considers the physical descriptions of the steel nails to be the defining factor when determining whether certain steel nails meet the proposed nail exclusions. Accordingly, we find that the additional labeling requirement proposed by Petitioner is unnecessary to define the nails subject to this exclusion and we are preliminarily not adopting Petitioner's labeling requirement.

³ See Petitioner's Request for Changed Circumstances Review at 3, dated February 11, 2001.

While Petitioner requested that the Department make the effective date of this CCR retroactive to January 23, 2008 (the date of the preliminary determination in the original investigation), the Department does not find this to be consistent with its recent practice. Instead, the Department preliminarily determines that the effective date for the partial revocation of this Order should be August 1, 2009, the earliest date for which entries of certain steel nails have not been subject to a completed administrative review. It is the Department's practice to revoke (in whole or in part) an antidumping duty order so that the effective date of revocation covers entries that have not been subject to a completed administrative review. See, e.g., Coumarin from the PRC ⁴ and Aspirin from the PRC.⁵ Therefore, the Department preliminarily determines that it shall partially revoke, effective August 1, 2009, the antidumping duty order with respect to the four specific steel nails from the PRC outlined in this notice, pursuant to sections 751(b) and (d) and 782(h) of the Act, as well as 19 CFR 351.216 and 351.222(g).

⁴ See Notice of the Final Results of Changed Circumstances Review and Revocation of the Antidumping Order: Coumarin from the People's Republic of China, 69 FR 24122 (May 3, 2004) (“Coumarin from the PRC”).

⁵ See Notice of Final Results of Changed Circumstances Review and Revocation of the Antidumping Duty Order: Bulk Aspirin from the People's Republic of China, 69 FR 77726 (December 28, 2004) (“Aspirin from the PRC”).

Section 782(h)(2) of the Act and 19 CFR 351.222(g)(1)(i) provide that the Department may revoke an order if it determines that producers accounting for substantially all of the production of the domestic like product have no further interest in the order, in whole or in part.

In accordance with section 751(b) of the Act, and 19 CFR 351.216(b), we are initiating this changed circumstances review. Petitioner stated in its February 11, 2011, request that itself, Maze Nails (a division of W.H. Maze Company) (“Maze”), and Davis Wire (a Heico Wire Group company) (“Davis”), the remaining three producers from the original group of Petitioners, account for substantially all domestic like product production. Petitioner further stated that Maze and Davis support the request for a changed circumstances review as filed by Petitioner on February 11, 2011.⁶ In accordance with section 751(b) of the Act and 19 CFR 351.222(g)(1)(i), we find that Petitioner, along with the other domestic producers supporting the request, comprise substantially all of the production of the domestic like product. See Petitioner's Request for Changed Circumstances Review dated February 11, 2011. Petitioner has expressed a lack of interest in the order, in part, with respect to the four specific steel nails identified above. Moreover, pursuant to 19 CFR 351.221(c)(3)(ii), the Department has determined that expedited action is warranted due to the expression of no interest by Petitioner and the supporting domestic producers in applying the antidumping duty order to the specific four nails identified in this request.

⁶ Signed statements of support from Maze and Davis are included in Petitioner's Request for Changed Circumstances Review dated February 11, 2011, at Attachment 1.

Based on the expression of no interest by Petitioner and the supporting domestic producers, and absent any objection by any other interested parties, we have preliminarily determined that the domestic producers of the like product have no interest in the continued application of the antidumping duty order on certain steel nails with respect to the merchandise that is subject to this request. Accordingly, we are notifying the public of our preliminarily results to revoke, in part, the antidumping duty order as it relates to imports of the four specific types of steel nails identified above. Therefore, we intend to change the scope of the order on certain steel nails from the PRC to include the following exclusion:

Excluded from the scope are steel roofing nails of all lengths and diameter, whether collated or in bulk, and whether or not galvanized. Steel roofing nails are specifically enumerated and identified in ASTM Standard F 1667 (2005 revision) as Type I, Style 20 nails. Also excluded from the scope are the following steel nails: (1) Non-collated (i.e., hand-driven or bulk), two-piece steel nails having plastic or steel washers (caps) already assembled to the nail, having a bright or galvanized finish, a ring, fluted or spiral shank, an actual length of 0.500″ to 8″, inclusive; and an actual shank diameter of 0.1015″ to 0.166″, inclusive; and an actual washer or cap diameter of 0.900″ to 1.10″, inclusive; (2) Non-collated (i.e., hand-driven or bulk), steel nails having a bright or galvanized finish, a smooth, barbed or ringed shank, an actual length of 0.500″ to 4″, inclusive; an actual shank diameter of 0.1015″ to 0.166″, inclusive; and an actual head diameter of 0.3375″ to 0.500″, inclusive; (3) Wire collated steel nails, in coils, having a galvanized finish, a smooth, barbed or ringed shank, an actual length of 0.500″ to 1.75″, inclusive; an actual shank diameter of 0.116″ to 0.166″, inclusive; and an actual head diameter of 0.3375″ to 0.500″, inclusive; and (4) Non-collated (i.e., hand-driven or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive.

Public Comment

Interested parties are invited to comment on these preliminary results. Written comments may be submitted no later than 14 days after the date of publication of these preliminary results. Rebuttals to written comments, limited to issues raised in such comments, may be filed no later than 21 days after the date of publication of these preliminary results. The Department will issue the final results of this changed circumstances review, which will include its analysis of any written comments, no later than 270 days after the date on which this review was initiated, or within 45 days if all parties agree to our preliminary results. See 19 CFR 351.216(e).

If final partial revocation occurs, we will instruct U.S. Customs and Border Protection (“CBP”) to liquidate, without regard to applicable antidumping duties, all unliquidated entries of nails that meet the above-noted specifications, and to refund any estimated antidumping duties collected on such merchandise entered, or withdrawn from warehouse, for consumption on or after August 1, 2009, the day after the most recent period for which an administrative review was completed. See 19 CFR 351.222(g)(4). The Department will further instruct CBP to refund with interest any estimated duties collected with respect to unliquidated entries of nails from the PRC entered, or withdrawn from warehouse, for consumption on or after August 1, 2009, in accordance with section 778 of the Act.

This initiation and preliminary results of review and notice are in accordance with sections 751(b) and 777(i) of the Act and 19 CFR 351.216, 351.221, and 351.222.

Dated: April 14, 2011.
Ronald K. Lorentzen,
Deputy Assistant Secretary for Import Administration.

[FR Doc. 2011-9717 Filed 4-20-11; 8:45 am]

BILLING CODE 3510-DS-P